DEPARTMENT OF ENERGY

Federal Energy Regulatory Commission

[Docket No. RP04-125-001]

Maritimes & Northeast Pipeline, L.L.C.; Notice of Compliance Filing

February 9, 2004.

Take notice that on February 4, 2004, Maritimes & Northeast Pipeline, L.L.C. (Maritimes) tendered for filing as part of its FERC Gas Tariff, First Revised Volume No. 1, Sub Second Revised Sheet No. 283, effective February 1, 2004.

Maritimes states that the purpose of this filing is to comply with the Commission's Order issued in the captioned docket on January 29, 2004 (January 29 Order). Maritimes states that it is making changes in section 15.1 of its General Terms and Conditions, Invoices and Payments, as required by paragraph 3 of the January 29 Order. Maritimes states that it is providing its customers with (i) e-mail notification of the posting of final electronic invoices, and (ii) an opportunity to designate an agent to receive electronic invoices and e-mail notifications.

Maritimes states that copies of its filing have been served on all affected customers, interested state commissions, and all parties on the Commission's official service list in this proceeding.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-282 Filed 2-13-04; 8:45 am]

BILLING CODE 6717-01-P